DEPARTMENT OF HEALTH AND HUMAN SERVICES

National Institutes of Health

Center for Scientific Review; Amended Notice of Meeting

Notice is hereby given of a change in the meeting of the Center for Scientific Review Special Emphasis Panel, November 28, 2000, 1 pm to November 28, 2000, 2:30 pm, NIH, Rockledge 2, Bethesda, MD, 20892 which was published in the Federal Register on November 17, 2000, 65 FR 69568-69570.

The meeting times have been changed to 3:30 pm to 4:30 pm. The date and location remain the same. The meeting is closed to the public.

Dated: November, 28, 2000.
LaVerne Y. Stringfield,
Director, Office of Federal Advisory Committee Policy.

[FR Doc. 00-31201 Filed 12-6-00; 8:45 am]

BILLING CODE 4140-01-M